DEPARTMENT OF THE INTERIOR

Bureau of Land Management

[AZ-110-07-1430-EU; AZA-33756]

Notice of Realty Action; Proposed Competitive Sale of Public Land; Mohave County, AZ

AGENCY: Bureau of Land Management, Interior.

ACTION: Notice of Realty Action.

SUMMARY: Two parcels of public land totaling 118.82 acres in Mohave County, Arizona are being considered for competitive sale under the provisions of the Federal Land Policy and Management Act of 1976 (FLPMA), at no less than the appraised fair market value.

DATES: In order to ensure consideration in the environmental analysis of the proposed sale, comments must be received by October 1, 2007.

ADDRESSES: Address all comments concerning this Notice to Field Manager, Bureau of Land Management (BLM), Arizona Strip Field Office, 345 East Riverside Drive, St. George, Utah 84790.

FOR FURTHER INFORMATION CONTACT: Laurie Ford, Team Lead, at the above address or phone (435) 688-3271.

SUPPLEMENTARY INFORMATION: The following-described public lands in Mohave County, Arizona, are being considered for competitive sale under the authority of Section 203 of the Federal Land Policy and Management Act of 1976 (90 Stat. 2750, 43 U.S.C. 1713):

Gila and Salt River Meridian, Arizona

T. 39 N., R. 16 W.,

Sec. 4, lot 2;

Sec. 5, lots 2 and 3.

The area described contains 118.82 acres, more or less, in Mohave County.

The 1992 BLM Arizona Strip District Resource Management Plan identifies these parcels of public land as suitable for disposal. Conveyance of the identified public lands will be subject to valid existing rights and encumbrances of record, including but not limited to, rights-of-way for roads and public utilities. Conveyance of any mineral interests pursuant to Section 209 of FLPMA will be analyzed during processing of the proposed sale.

On August 17, 2007, the above-described lands will be segregated from appropriation under the public land laws, including the mining laws, except the sale provisions of FLPMA. Until completion of the sale, the BLM is no longer accepting land use applications affecting the identified public lands, except applications for the amendment of previously-filed right-of-way applications or existing authorizations to increase the term of the grants in accordance with 43 CFR 2807.15 and 2886.15. The segregative effect will terminate upon issuance of a patent, publication in the Federal Register of a termination of the segregation, or August 17, 2009, unless extended by the BLM State Director in accordance with 43 CFR 2711.1-2(d) prior to the termination date.

Public Comments

For a period until October 1, 2007, interested parties and the general public may submit in writing any comments concerning the lands being considered for sale, including notification of any encumbrances or other claims relating to the identified land, to Field Manager, BLM, Arizona Strip Field Office, at the above address. In order to ensure consideration in the environmental analysis of the proposed sale, comments must be in writing and postmarked or delivered within 45 days of the initial date of publication of this Notice. Comments transmitted via e-mail will not be accepted. Comments, including names and street addresses of respondents, will be available for public review at the BLM Arizona Strip Field Office during regular business hours, except holidays. Before including your address, phone number, e-mail address, or other personal identifying information in your comment, be advised that your entire comment—including your personal—identifying information—may be made publicly available at any time. While you can ask us in your comment to withhold from public review your personal identifying information, we cannot guarantee that we will be able to do so.

(Authority: 43 CFR 2711.1-2)

Becky J. Hammond,
Field Manager.

[FR Doc. E7-16198 Filed 8-16-07; 8:45 am]

BILLING CODE 4310-32-P